DEPARTMENT OF HEALTH AND HUMAN SERVICES

Administration for Children and Families

[OMB No. 0970-0577]

Proposed Information Collection Activity; Evaluation of LifeSet

Correction

In notice document 2022-16791, appearing on pages 48033 through 48034 in the issue of Friday, August 5, 2022, make the following corrections:

1. On page 48034, in the table, on the third row, in the second cell, “LifeSet Team

Supervisors” should appear below “LifeSet Specialists”.

2. On the same page, in the same table, remove the fourth row including the text “LifeSet Team Supervisors”.

[FR Doc. C1-2022-16791 Filed 8-11-22; 8:45 am]

BILLING CODE 0099-10-D